GENERAL SERVICES ADMINISTRATION

Privacy Act of 1974; System of Records

AGENCY: General Services Administration.

ACTION: Notice of a new system of records subject to the Privacy Act of 1974.

SUMMARY: The General Service Administration (GSA) is providing notice of the establishment of a new system of records, Personal Property Sales Program (GSA/FSS-13). The new system will collect information for use in soliciting bids and awarding contracts on sales of Federal personal property. Information in the system will be provided voluntarily by individuals who wish to buy Federal personal property through sales and auctions conducted by GSA.

DATES: Comments on the new system must be provided November 30, 2000. The new system will become effective without further notice on November 30, 2000 unless comments dictate otherwise.

ADDRESSES: Address comments to: Director, Personal Property Division (FBP), Federal Supply Service, General Services Administration, 1941 Jefferson Davis Highway, Crystal Mall Building 4, Arlington, VA 22202.

FOR FURTHER INFORMATION CONTACT: Personal Property Division, Federal Supply Service, at the above address, or telephone (703) 305-7240.

GSA/FSS-13

System name:

Personal Property Sales Program.

System location:

System records are maintained by the General Services Administration (GSA) at several locations. A complete list of the locations is available from the System Manager.

Individuals covered by the system:

The system will include those individuals who request to be added to GSA bidders' mailing lists, register to bid on GSA sales, and enter into contracts to buy Federal personal property at sales conducted by GSA.

Records in the system:

The system contains information needed to identify potential and actual bidders and awardees, and transaction information involving personal property sales. System records include:

a. Personal information provided by bidders and buyers, including names, phone numbers, addresses, Social Security Numbers, and credit card numbers or other banking information; and

b. Contract information on Federal personal property sales, including whether payment was received, the form of the payment, notices of default, and contract claim information.

Authority for maintaining the system:

Sections 201 and 203 of the Federal Property and Administrative Services Act of 1949, as amended (40 U.S.C. 481 and 484), which assign responsibility for the disposition of property to the Administrator of General Services.

Purpose(s):

To establish and maintain a system of records for conducting public sales of Federal personal property by GSA.

Routine uses of the system records, including categories of users and their purposes for using the system:

System information may be accessed and used by authorized GSA employees or contractors to prepare for and conduct personal property sales, administer sales contracts, perform oversight or maintenance of the GSA electronic systems and, when necessary, for sales contract litigation or non-procurement suspension or debarment purposes.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM) or the General Accounting Office when the information is required for evaluation of the program.

e. To a Member of Congress or his or her staff on behalf of and at the request of the individual who is the subject of the record.

f. To an expert, consultant, or contractor of GSA in the performance of a Federal duty to which the information is relevant.

g. To the GSA Office of Finance for debt collection purposes (see GSA/PPFM-7).

h. To the National Archives and Records Administration (NARA) for records management inspection conducted under 44 U.S.C. 2904 and 2906.

Policies and practices for storing, retrieving, accessing, retaining, and disposing of system records:

Storage:

Information may be collected on paper or electronically and may be stored on paper or on electronic media, as appropriate.

Retrievability:

Records are retrievable by a personal identifier or by other appropriate type of designation approved by GSA.

Safeguards:

System records are safeguarded in accordance with the requirements of the Privacy Act, the Computer Security Act, and OMB Circular A-130. Technical, administrative, and personnel security measures are implemented to ensure confidentiality and integrity of the system data stored, processed, and transmitted. Paper records are stored in secure cabinets or rooms. Electronic records are protected by passwords and other appropriate security measures.

Retention and disposal:

Disposition of records is according to the National Archives and Records Administration (NARA) guidelines, as set forth in the handbook, GSA Records Maintenance and Disposition System (OAD P 1820.2), and authorized GSA records schedules.

System manager and address:

Director, Personal Property Division (FBP), Federal Supply Service, General Services Administration, 1941 Jefferson Davis Highway, Crystal Mall Building 4, Arlington VA 22202.

Notification procedure:

Individuals may submit a request on whether a system contains records about them to the system manager at the above address.

Record access procedures:

Requests from individuals for access to their records should be addressed to the system manager.

Contesting record procedures:

GSA rules for access to systems of records, contesting the contents of systems of records, and appealing initial determinations are published in the Federal Register, 41 CFR part 105-64.

Record source categories:

Information is provided by individuals who wish to participate in the GSA personal property sales program, and system transactions designed to gather and maintain data and to manage and evaluate the Federal personal property disposal program.

Dated: October 18, 2000.
Daniel K. Cooper,
Director, Information Management Division.

[FR Doc. 00-27909 Filed 10-30-00; 8:45 am]

BILLING CODE 6820-34-M